NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before January 30, 2009. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Risk Management Agency (N1-258-08-6, 2 items, 2 temporary items). Reinsurance agreements, final reinsurance agreements, standard reinsurance agreement negotiations records and other files pertaining to crop insurance policies sold or reinsured to private insurance companies.

2. Department of Agriculture, Risk Management Agency (N1-258-08-11, 1 item, 1 temporary item). Statements of work, invoices, solicitations, proposals, task orders, deliverables, and other records relating to pilot programs used to test and evaluate new crop insurance products.

3. Department of Agriculture, Risk Management Agency (N1-258-08-15, 1 item, 1 temporary item). Records relating to agreements that pertain to providing or obtaining support services.

4. Department of Agriculture, Risk Management Agency (N1-258-08-16, 1 item, 1 temporary item). Records relating to delegations of authority.

5. Department of Agriculture, Risk Management Agency (N1-258-08-19, 1 item, 1 temporary item). Records relating to accounting systems. Records pertain to such subjects as systems approved by the Government Accountability Office, management advisory services for financial systems, monitoring system development processes, and accounting system regulations.

6. Department of Agriculture, Risk Management Agency (N1-258-08-20, 1 item, 1 temporary item). Internal control records pertaining to measures taken to safeguard assets, ensure the accuracy of accounting data, promote operational efficiency, and encourage adherence to prescribed managerial policies.

7. Department of Agriculture, Risk Management Agency (N1-258-08-21, 1 item, 1 temporary item). General correspondence relating to personal property management including records relating to nonexpendable equipment, acquisitions, maintenance and disposal of office equipment.

8. Department of Defense, Defense Logistics Agency (N1-361-08-3, 13 items, 12 temporary items). Records relating to criminal incidents, contract fraud and investigations. Included are such records as case files, logs, polygraph examinations, reports, assessments, and related information. Proposed for permanent retention are polygraph examinations relating to historically significant cases. Historically valuable case files are retained permanently by the Defense Criminal Investigative Service.

9. Department of Defense, Defense Logistics Agency (N1-361-08-5, 1 item, 1 temporary item). Records relating to labor hours, projects, workload, civilian time and attendance, contract management, and contractor performance.

10. Department of Health and Human Services, Food and Drug Administration (N1-88-08-2, 11 items, 8 temporary items). Records relating to drug marketing and pre-marketing applications. Included are such records as application files lacking in historical value, records relating to the electronic transport of applications, duplicate copies of applications, and associated tracking data. Proposed for permanent retention are historically significant drug marketing and pre-marketing applications.

11. Department of Homeland Security, National Protection and Programs Directorate (N1-563-08-27, 1 item, 1 temporary item). Master files of an electronic information system used to support the identification of potentially significant changes in the operational status of the nation's critical infrastructure and key resources.

12. Department of Homeland Security, Science and Technology Directorate (N1-563-08-37, 1 item, 1 temporary item). Master files containing information about sets of data on Internet traffic available from non-agency data hosts for cyber defense research and user requests to publish research based on the datasets.

13. Department of Justice, Federal Bureau of Prisons (N1-129-09-12, 2 items, 2 temporary items). Records of regional psychology services offices including drug abuse, mental health, and sex offender treatment files.

14. Department of Justice, Federal Bureau of Prisons (N1-129-09-13, 3 items, 3 temporary items). Master files of an electronic information system used to capture, transfer and store X-ray images and reports for inmates.

15. Department of Justice, Federal Bureau of Prisons (N1-129-09-14, 3 items, 3 temporary items). Master files of an electronic information system used to assess and track inmates' reentry skills and progress.

16. Department of Justice, National Drug Intelligence Center (N1-523-08-5, 1 item, 1 temporary item). Master files of an asset repository that contains intelligence data related to illegal drug manufacturing, trafficking, and related activities.

17. Department of Labor, Bureau of Labor Statistics (N1-257-09-2, 26 items, 23 temporary items). Records from the Office of Survey Methods Research, including researchers working files, study related e-mail, Office of Management and Budget study clearance packages, study announcement and recruitment materials, advance materials, participant database, study materials, interviewer notes, recordings of test sessions, eye tracking database, keystroke recordings, usability test environment files, Monthly Labor Review manuscripts, Web publications, and articles published in professional journals and conference proceedings. Proposed for permanent retention are final reports, presentations at conferences and professional meetings, and training session materials.

18. Department of the Treasury, Internal Revenue Service (N1-58-08-14, 1 item, 1 temporary item). Claims-related letters which are returned to the agency as undeliverable.

19. Federal Election Commission, Office of the Inspector General (N1-339-08-1, 14 items, 10 temporary items). Files of the agency Inspector General, including such records as files relating to non-significant investigations and audits, hotline files, peer review files, policy and procedures files, general correspondence, planning files, and related reports. Proposed for permanent retention are significant investigative and audit files and semi-annual reports.

20. Federal Energy Regulatory Commission, Agency-wide (N1-138-09-1, 28 items, 28 temporary items). Monthly, quarterly, annual, biennial, variable and non-periodic reports submitted by electric, gas, oil, steam-electric, hydropower, transmission, and other public and private utilities. Paper recordkeeping copies were all previously approved for disposal.

21. Millennium Challenge Corporation, Agency-wide (N1-561-08-2, 6 items, 6 temporary items). Master files of electronic information systems used to track correspondence and monitor the status of agency projects. Also included are the agency's public Web site and intranet.

Dated: December 23, 2008.
Michael J. Kurtz,
Assistant Archivist for Records Services—Washington, DC.

[FR Doc. E8-31112 Filed 12-30-08; 8:45 am]

BILLING CODE 7515-01-P